DEPARTMENT OF DEFENSE

Office of the Secretary

[Docket ID: DoD-2024-OS-0077]

Submission for OMB Review; Comment Request

AGENCY: National Defense University (NDU), Department of Defense (DoD).

ACTION: 30-Day information collection notice.

SUMMARY: The DoD has submitted to the Office of Management and Budget (OMB) for clearance the following proposal for collection of information under the provisions of the Paperwork Reduction Act.

DATES: Consideration will be given to all comments received by December 9, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: NDU Security In-Process Form and National Background Investigation Services (NBIS) eApp Nomination Tier One Background Investigation Form; OMB Control Number 0704-0622.

Type of Request: Revision.

NDU Security In-Process Form

Annual Burden Hours: 27.08.

Number of Respondents: 125.

Responses per Respondent: 1.

Annual Responses: 125.

Average Burden per Response: 13 minutes.

NDU NBIS eApp Nomination Tier One Background Investigation Form

Annual Burden Hours: 16.67.

Number of Respondents: 100.

Responses per Respondent: 1.

Annual Responses: 100.

Average Burden per Response: 10 minutes.

Total

Annual Burden Hours: 44.

Number of Respondents: 225.

Annual Responses: 225.

Needs and Uses: This collection is used to properly verify a NDU employee's identity for the purpose of verifying their security clearance and need to know for their intended role at NDU. These collections also initiate minimum background investigations to meet Homeland Security Presidential Directive 12 requirements for purposes of issuing a Common Access Card (CAC) and NDU badge.

Affected Public: Individuals or households.

Frequency: On occasion.

Respondent's Obligation: Voluntary.

OMB Desk Officer: Ms. Jasmeet Seehra.

DOD Clearance Officer: Mr. Reginald Lucas.

Dated: November 4, 2024.
Stephanie J. Bost,
Alternate OSD Federal Register Liaison Officer, Department of Defense.

[FR Doc. 2024-25956 Filed 11-7-24; 8:45 am]

BILLING CODE 6001-FR-P